DEPARTMENT OF ENERGY

Federal Energy Regulatory Commission

[Docket No. CP03-57-000]

El Paso Natural Gas Company; Notice of Intent To Prepare an Environmental Assessment for the Proposed Bondad Expansion Project and Request for Comments on Environmental Issues

April 16, 2003.

The staff of the Federal Energy Regulatory Commission (FERC or Commission) will prepare an environmental assessment (EA) that will discuss the environmental impacts of a proposal by El Paso Natural Gas Company (El Paso) to replace certain facilities at its Bondad Compressor Station in La Plata County, Colorado.¹ These facilities consist of the replacement of 3 gas-fired turbines with increased horsepower units, installation of a new boiler and modifications to related equipment at the facility. All work and modifications would take place within the existing facility and no additional land would be necessary. The EA will be used by the Commission in its decision-making process to determine whether the project is in the public convenience and necessity.

¹ El Paso's application was filed with the Commission under Section 7 of the Natural Gas Act and part 157 of the Commission's regulations.

Summary of the Proposed Project

El Paso proposes to replace certain compression facilities at its Bondad Compressor Station, located in Township 33 North, Range 9 West, La Plata County, Colorado. El Paso is seeking to replace 3 existing Solar Centaur simple cycle gas turbine engines at the Bondad Compressor Station with a combined horsepower of 10,740 with two Solar Centaur 50-T6100L simple cycle gas turbine engines and one Solar Centaur 50S-T6100 simple cycle gas turbine engine, with appurtenances, which have a combined horsepower rating of 18,390 (ISO). The Solar Centaur 50S-T6100 simple cycle gas turbine engine is equipped with air emission-lowering SoloNox technology. El Paso would also restage the 3 existing compressor units at the Bondad Compressor Station. The compressors would be disassembled and the single stage aerodynamic assembly of each compressor would be removed and exchanged with a two stage assembly.

Minor modifications to the station skids, panel units, and inlet air systems would be required in order to accommodate the new turbines. Project activities would also include upgrading existing lube oil cooler units associated with each turbine to accommodate increased oil heat load and upgrading discharge aftergas cooling system. Additionally, El Paso would install a new 0.25 million British thermal units per hour natural gas-fired fuel heater and associated miscellaneous plant yard piping.

All work would take place within the existing Bondad Compressor Station. No nonjurisdicitonal facilities are involved.

Land Requirements for Construction

The project area encompasses a total of approximately 2.8 acres of land within the existing fenced area of the Bondad Compressor Station. This fenced area was previously disturbed by leveling, grading, and excavation associated with construction of the existing facilities. The project would not affect previously undisturbed areas and no access roads will be constructed to complete the proposed project.

The EA Process

The National Environmental Policy Act (NEPA) requires the Commission to take into account the environmental impacts that could result from an action whenever it considers the issuance of a Certificate of Public Convenience and Necessity. NEPA also requires the Commission to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the proposed abandonment project under these general headings:

1. Soils

2. Cultural Resources

3. Air Quality and Noise

4. Public Safety

We will not discuss impacts to the following resource areas since they are not present in the project area, or would not be affected by the proposed facilities:

• Water resources, fisheries, and wetlands,

• Vegetation and wildlife,

• Geology,

• Socioeconomics,

• Hazardous waste & PCB contamination, and

• Land use.

We will also evaluate reasonable alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP03-57-000

• Mail your comments so that they will be received in Washington, DC on or before May 16, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

We might mail the EA for comment. If you are interested in receiving it, please return the Information Request (Appendix 3). If you do not return the Information Request, you will be taken off the mailing list.

Becoming an Intervener

In addition to involvement in the EA scoping process, you may want to become an official party to the proceeding known as an “Intervener.” Interveners play a more formal role in the process. Among other things, Interveners have the right to receive copies of case-related Commission documents and filings by other Interveners. Likewise, each Intervener must provide 14 copies of its filings to the Secretary of the Commission and must send a copy of its filings to all other parties on the Commission's service list for this proceeding. If you want to become an Intervener you must file a motion to intervene according to Rule 214 of the Commission's Rules of Practice and Procedure (18 CFR 385.214) (see Appendix 1).² Only Interveners have the right to seek rehearing of the Commission's decision.

² Interventions may also be filed electronically via the Internet in lieu of paper. See the previous discussion on filing comments electronically.

Affected landowners and parties with environmental concerns may be granted Intervener status upon showing good cause by stating that they have a clear and direct interest in this proceeding which would not be adequately represented by any other parties. You do not need Intervener status to have your environmental comments considered.

Environmental Mailing List

This notice is being sent to individuals, organizations, and government entities interested in and/or potentially affected by the proposed project. It is also being sent to all residents adjacent to the proposed facilities. By this notice we are also asking governmental agencies, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of the application and supplemental filings by El Paso, and formal documents issued by the Commission, such as orders, notices, and rulemakings.

Please see directions for eSubscription (Appendix 2).

Magalie R. Salas,
Secretary.

[FR Doc. 03-9894 Filed 4-21-03; 8:45 am]

BILLING CODE 6717-01-P